DEPARTMENT OF COMMERCE

National Oceanic and Atmospheric Administration

RIN 0648-XF079

Marine Mammals; File No. 20666

AGENCY: National Marine Fisheries Service (NMFS), National Oceanic and Atmospheric Administration (NOAA), Commerce.

ACTION: Notice; receipt of application.

SUMMARY: Notice is hereby given that Randall Davis, Ph.D., Texas A&M University, Department of Marine Biology, 5007 Avenue U, Galveston, TX 77551, has applied in due form for a permit to conduct scientific research on harbor seals (Phoca vitulina).

DATES: Written, telefaxed, or email comments must be received on or before February 2, 2017.

ADDRESSES: The application and related documents are available for review by selecting “Records Open for Public Comment” from the “Features” box on the Applications and Permits for Protected Species (APPS) home page, https://apps.nmfs.noaa.gov, and then selecting File No. 20666 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. 20666 in the subject line of the email comment.

Those individuals requesting a public hearing should submit a written request to the Chief, Permits and Conservation Division at the address listed above. The request should set forth the specific reasons why a hearing on this application would be appropriate.

FOR FURTHER INFORMATION CONTACT: Jennifer Skidmore or Sara Young, (301) 427-8401.

SUPPLEMENTARY INFORMATION: The subject permit is requested under the authority of the Marine Mammal Protection Act of 1972, as amended (MMPA; 16 U.S.C. 1361 et seq.), the regulations governing the taking and importing of marine mammals (50 CFR part 216).

The applicant proposes to conduct physiology research on up to 5 harbor seals (over the life of the project) at the Texas A&M Institute of Preclinical Studies in College Station, TX. Animals will be transported from the Moody Gardens Aquarium in Galveston, TX, or other cooperating public display facilities to be determined. The object is to simultaneous measure heart rate and complete regional blood flow to tissues and organs during rest, and voluntary dives with and without exercise. Blood flow will be measured using stable isotopes and heart rate will be measured with an ECG recorder. One mortality over the life of the project is requested. The requested duration of the permit is 5 years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: December 27, 2016.
Julia Harrison,
Chief, Permits and Conservation Division, Office of Protected Resources, National Marine Fisheries Service.

[FR Doc. 2016-31781 Filed 12-30-16; 8:45 am]

BILLING CODE 3510-22-P